ENVIRONMENTAL PROTECTION AGENCY

[FRL-7127-1]

Clean Air Act Advisory Committee: Accident Prevention Subcommittee Meeting

AGENCY: Environmental Protection Agency (EPA).

ACTION: Notice of meeting.

SUMMARY: The Clean Air Act section 112(r) required EPA to publish regulations to prevent accidental releases of chemicals and to reduce the severity of those releases that do occur. These accidental release prevention requirements build on the chemical safety work begun by the Emergency Planning and Community Right-to-Know Act (EPCRA) which sets forth requirements for industry, State and local governments. On June 20, 1996, EPA published the final rule for risk management programs to address prevention of accidental releases. Facilities that are subject to the rule are required to implement a risk management program at their facility, and submit a summary of this information (the Risk Management Plan, RMP) to EPA. Approximately 15,000 RMPs have been submitted to EPA.

The Accident Prevention Subcommittee was created in September 1996 to advise EPA's Chemical Emergency Preparedness and Prevention Office (CEPPO) on these chemical accident prevention issues, specifically, section 112(r) of the Clean Air Act.

DATES: The Accident Prevention Subcommittee of the Clean Air Act Advisory Committee will hold a public meeting on January 24, 2002 from 8:30 a.m. to 3:00 p.m.

ADDRESSES: The meeting will be held at the Environmental Protection Agency, Ariel Rios North, Emergency Operations Center, Room B444, 1200 Pennsylvania Avenue, NW, Washington DC. Members of the public are welcome to attend in person.

FOR FURTHER INFORMATION CONTACT: Members of the public desiring additional information about this meeting, should contact William Finan, Designated Federal Official, U.S. EPA (5104A), 1200 Pennsylvania Avenue, NW, Washington DC 20460, via the Internet at: finan.bill@epa.gov, by telephone at (202) 564-7981 or FAX at (202) 564-8444.

SUPPLEMENTARY INFORMATION:

Agenda

Opening Remarks—Jim Makris (8:30-9:00)

Update on Risk Management Plans Submitted to Date (9:00-9:45)

Proposed Third-Party Audits for the RMP Program (9:45-10:45)

National Chemical Safety Assessment (10:45-11:30)

Options on improving site security at chemical facilities (e.g., inclusion in company safety, health, and environment programs; legislation, regulation, standards, voluntary programs) (12:30-1:30)

How we can use upcoming Organization for Economic Cooperation and Development (OECD) publications in the US (the OECD publications are: Guidance on Safety Performance Indicators; and Guiding Principles for Chemical Accident Prevention, Preparedness, and Response (1:30—2:30) Comments from the public (2:30-3:00)

Members of the public who wish to make a brief oral presentation in person in Washington DC to the Subcommittee at the January 24 meeting must contact William Finan in writing (by letter, fax, or email—see previously stated information) no later than January 21, 2002 in order to be included on the agenda. Written comments may be submitted to the Accident Prevention Subcommittee up through the date of the meeting. Please address such material to William Finan at the above address.

The Accident Prevention Subcommittee expects that public statements presented at its meetings will not be repetitive or previously submitted oral or written statements. In general, opportunities for oral comment will be limited to no more than three minutes per speaker and no more than thirty minutes total. Written comments (twelve copies) received sufficiently prior to a meeting date (usually one week prior to a meeting or teleconference), may be mailed to the Subcommittee prior to its meeting.

Additional information on the Accident Prevention Subcommittee is available on the Internet at: http://www.epa.gov/swercepp/acc-pre.html.

If you would like to automatically receive future information on the Accident Prevention Subcommittee and its Workgroups by email, you can subscribe to the EPA-CEPPO Listserve by following directions at www.epa.gov/ceppo.

Dated: January 3, 2002.
William Finan,
Designated Federal Official.

[FR Doc. 02-510 Filed 1-8-02; 8:45 am]

BILLING CODE 6560-50-P